ENVIRONMENTAL PROTECTION AGENCY

[FRL-9090-1]

Issuance of a Final NPDES General Permit (GP) for Offshore Seafood Processors Discharging in Federal Waters Off the Alaska Shore (Permit Number AKG-524-000)

AGENCY: Environmental Protection Agency (EPA).

ACTION: Issuance of Final NPDES General Permit.

SUMMARY: On September 26, 2008, the Director, Office of Water and Watersheds, EPA Region 10, proposed to issue a general permit to cover offshore seafood processors discharging seafood processing waste off the shore of Alaska. During the 76-day comment period, EPA received comments from 11 people and has prepared a Response to Comments document to explain changes made in the permit and reasons for not making changes that were requested.

DATES: The permit will become effective March 1, 2010 and will expire February 28, 2015. The permit issuance date is December 28, 2009.

ADDRESSES: Copies of the General Permit and the Response to Comments may be requested from Audrey Washington, EPA Region 10, 1200 Sixth Avenue, Suite 900, OWW-130, Seattle, WA 98101-3140, by phone at (206) 553-0523, or by e-mail: washington.audrey@epa.gov.

FOR FURTHER INFORMATION CONTACT: Copies of the general permit and response to comments are available on the EPA Region 10 Web site at http://yosemite.epa.gov/R10/WATER.NSF/NPDES+Permits/General+NPDES+Permits.

SUPPLEMENTARY INFORMATION

A. Endangered Species Act

Section 7 of the Endangered Species Act requires EPA to consult with the U.S. Fish and Wildlife Service and National Marine Fisheries Service regarding the potential effects that an action may have on listed endangered or threatened species or their critical habitat. To address these ESA requirements, and in support of EPA's informal consultation with the Services, a Biological Evaluation (BE) was prepared to analyze these potential effects. The results of the BE concluded that discharges from Offshore Seafood Processing facilities will either have no effect or are not likely to adversely affect threatened or endangered species, their critical habitat, or essential fish habitat in the vicinity of the discharge. After reviewing the BE and permit the Services concurred with EPA's findings.

B. Executive Order 12866

The Office of Management and Budget has exempted this action from the review requirements of Executive Order 12866 pursuant to Section 6 of that order.

C. Paperwork Reduction Act

The information collection requirements of this permit were previously approved by the Office of Management and Budget (OMB) under the provisions of the Paperwork Reduction Act, 44 U.S.C. 3501 et seq. and assigned OMB control numbers 2040-0086 (NPDES permit application) and 2040-0004 (discharge monitoring reports).

D. Unfunded Mandates Reform Act

Section 201 of the Unfunded Mandates Reform Act (UMRA), Public Law 104-4, generally requires federal agencies to assess the effects of their “regulatory actions” (defined to be the same as “rules” subject to the RFA) on tribal, state, and local governments and the private sector. However, general NPDES permits are not “rules” subject to the requirements of 5 U.S.C. 553(b) and are therefore not subject to the UMRA.

E. Appeal of Permits

Any interested person may appeal the general permit in the Federal Court of Appeals in accordance with Section 509(b)(1) of the Clean Water Act. This appeal must be filed within 120 days after the permit issuance date. Persons affected by the permits may not challenge the conditions of the permits in further EPA proceedings (See 40 CFR 124.19). Instead they may either challenge the permit in court or apply for an individual NPDES permit.

Dated: December 1, 2009.
Michael A. Bussell,
Director, Office of Water & Watersheds, Region 10, U.S. Environmental Protection Agency.

[FR Doc. E9-29598 Filed 12-10-09; 8:45 am]

BILLING CODE 6560-50-P